SMALL BUSINESS ADMINISTRATION

Solutions Capital I, L.P., License No. 03/03-0247; Notice Seeking Exemption Under Section 312 of the Small Business Investment Act, Conflicts of Interest

Notice is hereby given that Solutions Capital I, L.P., 1001 19th Street North, 10th Floor, Arlington, VA 22209, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Solutions Capital I L.P. proposes to provide loan financing to Dorsey School of Business Holdings, Inc., 30775 Barrington, Suite 100, Madison Heights, MI 48071 (“Dorsey”).

The financing is brought within the purview of § 107.730(a)(4) of the Regulations because Solutions Capital I, L.P. proposes to purchase the investment in Dorsey from Solutions Capital II, L.P., an Associate of Solutions Capital I, L.P. Therefore this transaction is considered a financing constituting a conflict of interest requiring prior SBA approval.

Notice is hereby given that any interested person may submit written comments on the transaction, within fifteen days of the date of this publication, to the Associate Administrator, Office of Investment and Innovation, U.S. Small Business Administration, 409 Third Street SW., Washington, DC 20416.

Javier Saade,
Associate Administrator, Office of Investment and Innovation.

[FR Doc. 2013-29176 Filed 12-6-13; 8:45 am]

BILLING CODE 8025-01-M